DEPARTMENT OF COMMERCE

International Trade Administration

[A-583-854]

Certain Steel Nails From Taiwan: Preliminary Results of Antidumping Duty Administrative Review and Partial Rescission of Administrative Review; 2015-2016

AGENCY: Enforcement and Compliance, International Trade Administration, U.S. Department of Commerce.

SUMMARY: The Department of Commerce (the Department) is conducting an administrative review of the antidumping duty order on certain steel nails from Taiwan. The period of review (POR) is May 20, 2015, through June 30, 2016. This review covers Bonuts Logistics Co., LLC (Bonuts); Hor Liang Industrial Corp.; Romp Coil Nails Industries Inc.; PT Enterprise, Inc. (PT Enterprise) and its affiliated producer Pro-Team Coil Nail Enterprise, Inc. (Pro-Team) (collectively, PT); and Unicatch Industrial Co. Ltd. and its affiliated U.S. reseller, TC International, Inc. (collectively, Unicatch). The Department preliminarily determines that Bonuts, Hor Liang Industrial Corp., Romp Coil Nails Industries Inc., PT, and Unicatch made U.S. sales of subject merchandise below normal value. The preliminary results are listed below in the section titled “Preliminary Results of Review.” We are rescinding the review with respect to 79 companies for which the request for review was timely withdrawn. Interested parties are invited to comment on these preliminary results.

DATES: Applicable August 7, 2017.

FOR FURTHER INFORMATION CONTACT: Scott Hoefke or Victoria Cho, AD/CVD Operations, Office VI, Enforcement and Compliance, International Trade Administration, U.S. Department of Commerce, 1401 Constitution Avenue NW., Washington DC 20230; telephone: (202) 482-4947 or (202) 482-5075, respectively.

SUPPLEMENTARY INFORMATION:

Scope of the Order ¹

¹ See Certain Steel Nails from the Republic of Korea, Malaysia, the Sultanate of Oman, Taiwan, and the Socialist Republic of Vietnam: Antidumping Duty Orders, 80 FR 39994 (July 13, 2015) (the Order).

The merchandise covered by this order is certain steel nails. The certain steel nails subject to the order are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these orders also may be classified under HTSUS subheadings 7907.00.60.00, 8206.00.00.00 or other HTSUS subheadings.

The full description of the scope of the order is contained in the memorandum, “Decision Memorandum for Preliminary Results of Antidumping Duty Administrative Review: Certain Steel Nails from Taiwan; 2015-2016” (Preliminary Decision Memorandum), which is hereby adopted by this notice. The written description of the scope of the order is dispositive.

Methodology

For Unicatch, the Department has conducted this review in accordance with section 751(a)(1) of the Tariff Act of 1930, as amended (the Act). Normal value (NV) is calculated in accordance with section 773(e) of the Act. Constructed export price or export price is calculated in accordance with section 773(a) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, room B-8024 of the main Department of Commerce building. In addition, a complete version of the Preliminary Decision Memorandum can be accessed directly at http://enforcement.trade.gov/frn/index.html. The signed Preliminary Decision Memorandum and the electronic version of the Preliminary Decision Memorandum are identical in content. A list of the topics discussed in the Preliminary Decision Memorandum is attached as the Appendix to this notice.

Application of Facts Available and Adverse Facts Available

We preliminarily determine that PT and Bonuts failed to cooperate to the best of their ability in participating in the review, warranting the application of facts otherwise available with adverse inferences, pursuant to section 776(a)-(b) of the Act. For a full description of the methodology and rationale underlying our conclusions, see the Preliminary Decision Memorandum.

Rate for Non-Examined Companies

The statute and the Department's regulations do not address the establishment of a rate to be applied to companies not selected for examination when the Department limits its examination in an administrative review pursuant to section 777A(c)(2) of the Act. Generally, the Department looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.” In this review, we calculated a weighted-average dumping margin for Unicatch that is not zero, de minimis, or determined entirely on the basis of facts available. Accordingly, the Department assigned Hor Liang Industrial Corp., and Romp Coil Nails Industries Inc. a margin of 34.20 percent, which is Unicatch's calculated weighted-average dumping margin.

Partial Rescission of Review

On December 12, 2016, Mid Continent Steel & Wire, Inc. (Mid Continent), a domestic producer and interested party, timely withdrew its review requests for certain companies.² Pursuant to 19 CFR 351.213(d)(1), the Department will rescind an administrative review, in whole or in part, if the party that requested the review withdraws its request within 90 days of the date of publication of the notice of initiation of the requested review. For a full description of the methodology and rationale underlying our conclusions, see the Preliminary Decision Memorandum.

² ABF Freight International Private Ltd., Astrotech Steels Private Ltd., Air Sea Transport, Inc., Basso Industry Corporation, Apex Maritime (Fuzhou) Co., Ltd., Blue Moon Logistics Private Ltd., Apex Maritime (Shenzhen) Co., Ltd., Aplus Pneumatic Corp., Bollore Logistics (Taiwan) Ltd., Bollore Logistics (Vietnam) Co. Ltd., Dahnay Logistics Private Ltd., C.H. Robinson Freight Services, DIFS Logistics Co. Ltd., Certified Products Taiwan Inc., Eagre International Trade Co., Ltd., Challenge Industrial Co., Ltd., Easylink Industrial Co., Ltd., Chia Pao Metal Co. Ltd., Encore Green Co., Ltd., China Staple Enterprise Corporation, Everise Global Logistics Co., Ltd., Chite Enterprises Co., Ltd., Faithful Engineering Products Co. Ltd., Crown Run Industrial Corp., Fastenal Asia Pacific Ltd., Freight Links International Ltd., Honour Lane Logistics Co., Ltd., General Merchandise Consolidators, Ginfa World Co. Ltd., HWA Hsing Screw Industry Co. Ltd., Gloex Company, Inmax Industries Sdn Bhd, Hariharan Logistics, Integral Building Products Inc., Hecny Group, Interactive Corporation, Hi-Sharp Industrial Corp. Ltd., Jade Shuttle Enterprise Co., Ltd., Home Value Co., Ltd., Jau Yeou Industry Co. Ltd., Jinhai Hardware Co., Ltd., Nora Freight Services Sdn Bhd, K Win Fasteners Inc., Orient Express Container Co., Ltd., King Freight International Corporation, Orient Star Transport International Ltd., Kuan Hsin Screw Industry Co., Ltd., Pacific Concord International Ltd., Liang Chyuan Industrial Co., Ltd., Patek Tool Co., Ltd., Linkwell Industry Co. Ltd., Pneumax Corp., ML Global Ltd., President Industrial Inc., Maytrans International Corp., Newrex Screw Corporation, Qi Ding Enterprise Co. Ltd., T.H.I. Logistics Co. Ltd., Quick Advance Inc., Tag Fasteners Sdn Bhd, Ray Fu Enterprise Co., Ltd., Taiwan Wakisangyo Co. Ltd., Region Systen Sdn Bhd, Tianjin Jinchi Metal Products Co. Ltd., TK Logistics International Co. Ltd., Schenker (H.K.) Ltd. Taiwan Branch, Topocean Consolidation Service Ltd., Shang Jeng Nail Co., Ltd., Transworld Transportation Co. Ltd., Suntec Industries Co., Ltd., Unicom International Tower, Trim International Inc., Tsi-Translink (Taiwan) Co. Ltd., WTA International Co. Ltd., U-Can-Do Hardware Corp., Yeun Chang Hardware Tool Co. Ltd., United Nail Products Co. Ltd., Yu Tai World Co., Ltd., UPS Supply Chain Solutions, and Zon Mon Co. Ltd.

Preliminary Results of the Review

As a result of this review, we preliminarily determine that the following weighted-average dumping margins exist:

Producer/exporter | Dumping margin (percent)
Bonuts Logistics Co., LLC | 78.17
PT Enterprise, Inc./Pro-Team Coil Nail Enterprise, Inc | 78.17
Unicatch Industrial Co. Ltd | 34.20
Non-Examined Companies ³ | 34.20

Disclosure and Public Comment

The Department intends to disclose to interested parties the calculations performed in connection with these preliminary results within five days of the date of publication of this notice.⁴ Interested parties may submit cases briefs no later than 30 days after the date of publication of this notice.⁵ Rebuttal briefs, limited to issues raised in the case briefs, may be filed not later than five days after the due date for filing case briefs.⁶ Parties who submit case briefs or rebuttal briefs in this proceeding are encouraged to submit with each argument: (1) A statement of the issue; (2) a brief summary of the argument; and (3) a table of authorities.⁷ Case and rebuttal briefs should be filed using ACCESS.⁸ In order to be properly filed, ACCESS must successfully receive an electronically filed document in its entirety by 5 p.m. Eastern Time.

³ The non-examined companies are Hor Liang Industrial Corp., and Romp Coil Nails Industries Inc.

⁴ See 19 CFR 351.224(b).

⁵ See 19 CFR 351.309(c)(1)(ii).

⁶ See 19 CFR 351.309(d).

⁷ See 19 CFR 351.309(c)(2) and (d)(2).

⁸ See 19 CFR 351.303.

Pursuant to 19 CFR 351.310(c), interested parties who wish to request a hearing must submit a written request to the Assistant Secretary for Enforcement and Compliance, filed electronically via ACCESS, within 30 days after the date of publication of this notice.⁹ Requests should contain: (1) The party's name, address, and telephone number; (2) the number of participants; and (3) a list of issues to be discussed. Issues raised in the hearing will be limited to those raised in the respective case and rebuttal briefs.

⁹ See 19 CFR 351.310(c).

Unless otherwise extended, the Department intends to issue the final results of this administrative review, including the results of its analysis of the issues raised in any written briefs, not later than 120 days after the date of publication of this notice, pursuant to section 751(a)(3)(A) of the Act.

Assessment Rates

Upon completion of the administrative review, the Department shall determine, and CBP shall assess, antidumping duties on all appropriate entries in accordance with 19 CFR 351.212(b)(1). We intend to issue instructions to CBP 15 days after the date of publication of the final results of this review.

Where the respondent reported reliable entered values, we calculated importer- (or customer-) specific ad valorem rates by aggregating the dumping margins calculated for all U.S. sales to each importer (or customer) and dividing this amount by the total entered value of the sales to each importer (or customer).¹⁰ Where the Department calculated a weighted-average dumping margin by dividing the total amount of dumping for reviewed sales to that party by the total sales quantity associated with those transactions, the Department will direct CBP to assess importer- (or customer-) specific assessment rates based on the resulting per-unit rates.¹¹ Where an importer- (or customer-) specific ad valorem or per-unit rate is greater than de minimis (i.e., 0.50 percent), the Department will instruct CBP to collect the appropriate duties at the time of liquidation.¹² Where an importer- (or customer-) specific ad valorem or per-unit rate is zero or de minimis, the Department will instruct CBP to liquidate appropriate entries without regard to antidumping duties.¹³

¹⁰ See 19 CFR 351.212(b)(1).

¹¹ Id.

¹² Id.

¹³ See 19 CFR 351.106(c)(2).

For the companies which were not selected for individual review, we will assign an assessment rate based on the methodology described in the “Rates for Non-Examined Companies” section, above.

Consistent with the Department's assessment practice, for entries of subject merchandise during the POR produced by Bonuts, PT, Unicatch, or the non-examined companies, for which the producer did not know that its merchandise was destined for the United States, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the firms covered by this review, we intend to issue liquidation instructions to CBP 15 days after publication of the final results of this review. For the non-reviewed firms for which we are rescinding this administrative review, the Department intends to instruct CBP 15 days after publication of these preliminary results of review to assess antidumping duties at rates equal to the rates of cash deposits for estimated antidumping duties required at the time of entry, or withdrawn from warehouse, for consumption, during the period May 20, 2015, through June 30, 2016, in accordance with 19 CFR 351.212(c)(2).

Cash Deposit Requirements

The following cash deposit requirements will be effective for all shipments of the subject merchandise entered, or withdrawn from warehouse, for consumption on or after the publication date of the final results of this administrative review, as provided by section 751(a)(2)(C) of the Act: (1) The cash deposit rate for Bonuts, PT, and Unicatch will be equal to the weighted-average dumping margin established in the final results of this review, except if the rate is zero or de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, then the cash deposit rate will be the rate established for the most recently completed segment of this proceeding for the manufacturer of subject merchandise; and (4) the cash deposit rate for all other manufacturers or exporters will continue to be 2.24 percent, the all-others rate in the LTFV investigation.¹⁵ These cash deposit requirements, when imposed, shall remain in effect until further notice.

¹⁵ See Certain Steel Nails from Taiwan: Final Determination of Sales at Less Than Fair Value, 80 FR 28959 (May 20, 2015).

Notifications

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: July 31, 2017.
Gary Taverman,
Deputy Assistant Secretary for Antidumping and Countervailing Duty Operations, performing the non-exclusive functions and duties of the Assistant Secretary for Enforcement and Compliance.

Appendix

List of Topics Discussed in the Preliminary Decision Memorandum

1. Summary

2. Background

3. Scope of the Order

4. Preliminary Determination of No Shipments

5. Affiliation and Collapsing

6. Adverse Facts Available

7. Comparisons to Normal Value

8. Date of Sale

9. Export Price and Constructed Export Price

10. Normal Value

11. Currency Conversion

12. Recommendation

[FR Doc. 2017-16498 Filed 8-4-17; 8:45 am]

BILLING CODE 3510-DS-P